DEPARTMENT OF TRANSPORTATION

Federal Aviation Administration

[Docket No. 2024-1657]

Agency Information Collection Activities: Requests for Comments; Clearance of a Renewed Approval of Information Collection: Representatives of the Administrator, 14 CFR Part 183

AGENCY: Federal Aviation Administration (FAA), DOT.

ACTION: Notice and request for comments.

SUMMARY: In accordance with the Paperwork Reduction Act of 1995, FAA invites public comments about our intention to request the Office of Management and Budget (OMB) approval to renew an information collection. The collection involves the voluntary submission of application information for persons applying to become designated representatives of the FAA Administrator. The information to be collected will be used by the FAA to screen and select designees who will act as representatives of the FAA Administrator in performing various certification and examination functions on behalf of the FAA.

DATES: Written comments should be submitted by July 29, 2024.

ADDRESSES: Please send written comments:

By Electronic Docket: https://www.regulations.gov (enter docket number into search field).

By email: Tanya Glines, tanya.glines@faa.gov.

FOR FURTHER INFORMATION CONTACT: Tanya Glines by email at: Tanya.glines@faa.gov; phone: 202-380-5896.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0033.

Title: Representatives of the Administrator, 14 CFR part 183.

Form Numbers: None.

Type of Review: Renewal of an information collection.

Background: Title 49, United States Code, Section 44702 states that the Secretary of Transportation may delegate to any properly qualified private person, the examination and testing necessary for the issuance of certificates under Title VI of the Federal Aviation Act. Title 14, Code of Federal Regulations (14 CFR), part 183, Representatives of the Administrator, describes the requirements for delegating to any properly qualified private person, the examination and testing necessary for the issuance of airmen certificates.

Response to this collection of information is required to obtain a benefit, specifically, to obtain a FAA designation as a representative of the FAA Administrator. Designee applicants come from private industry. They are experts in the aviation and medical communities who are familiar with the regulations and certification requirements necessary to issue an FAA certificate. Only highly experienced aviation professionals are expected to respond to the collection. The collection is for reporting of an individual's eligibility and qualifications and occurs on an as needed basis for initial applicants. However, if an individual is not selected as a designee, their application must be updated whenever information changes (as needed) and at least every 12 calendar months (annually).

The FAA has now fully implemented the use of the Designee Management System (DMS) web-based application, located at https://designee.faa.gov/#/login, for the application process for all designee types.

Respondents: Approximately 2,100 individuals applying to be a designated representative of the FAA Administrator.

Frequency: As needed, annually.

Estimated Average Burden per Response: 4 hours.

Estimated Total Annual Burden: 8,500 hours.

Issued in Washington, DC, on May 23, 2024.
Tanya A. Glines,
Aviation Safety Inspector, FAA Office of Safety Standards, Aircraft maintenance Division, Airmen Section.

[FR Doc. 2024-11768 Filed 5-28-24; 8:45 am]

BILLING CODE 4910-13-P